DEPARTMENT OF TRANSPORTATION

Federal Railroad Administration

Notice of Funding Opportunity for the Federal-State Partnership for State of Good Repair Program

AGENCY: Federal Railroad Administration (FRA), Department of Transportation (DOT).

ACTION: Notice of Funding Opportunity (NOFO or notice).

SUMMARY: This notice details the application requirements and procedures to obtain grant funding for eligible projects under the Federal-State Partnership for State of Good Repair Program (Partnership Program). This notice solicits applications for Partnership Program funds made available by the Consolidated Appropriations Act, 2021. The opportunity described in this notice is made available under Assistance Listings Number 20.326, “Federal-State Partnership for State of Good Repair.”

DATES: Applications for funding under this solicitation are due no later than 5:00 p.m. ET, March 7, 2022. Late or incomplete applications will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Mr. Bryan Rodda, Office of Policy and Planning, Federal Railroad Administration, 1200 New Jersey Avenue SE, Room W38-203, Washington, DC 20590. However, due to delays caused by enhanced screening of mail delivered via the U.S. Postal Service, applicants are advised to use other means of conveyance (such as courier service) to assure timely receipt of materials before the application deadline.

FOR FURTHER INFORMATION CONTACT: For further information related to this notice, please contact Mr. Bryan Rodda, Office of Policy and Planning, Federal Railroad Administration, 1200 New Jersey Avenue SE, Room W38-203, Washington, DC 20590; email: Bryan.Rodda@dot.gov; phone: 202-493-0443.

SUPPLEMENTARY INFORMATION: This notice wholly supersedes and cancels FRA's prior notice for this program, published in the Federal Register on December 7, 2021 (86 FR 69352), which was incomplete. Applicants should refer only to this notice for application requirements and procedures.

Notice to applicants: FRA recommends that applicants read this notice in its entirety prior to preparing application materials. Definitions of key terms used throughout the NOFO are provided in Section A(2) below. These key terms are capitalized throughout the NOFO. There are several administrative and specific eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

Our nation's rail network is a critical component of the U.S. transportation system and economy. Prior to the coronavirus disease 2019 (COVID-19) pandemic, rail carried over 32.5 million passengers on Amtrak services and approximately 1.6 billion tons of freight valued at over $600 billion each year. The Partnership Program provides a Federal funding opportunity to improve American passenger rail infrastructure to enhance rail safety, reduce the backlog of deferred maintenance for Amtrak or publicly owned or controlled railroad assets, create new opportunities for underserved communities, and invest in projects that support and spur economic growth.

The purpose of the Partnership Program is to fund projects within the United States to repair, replace, or rehabilitate Qualified Railroad Assets to reduce the state of good repair backlog and improve Intercity Passenger Rail performance. Section E of this NOFO provides additional information on these program priorities.

The Partnership Program is authorized in Sections 11103 and 11302 of the Passenger Rail Reform and Investment Act of 2015 (Title XI of the Fixing America's Surface Transportation (FAST) Act, Pub. L. 114-94 (2015)); codified at 49 U.S.C. 24911, and this NOFO is funded by the Consolidated Appropriations Act, 2021 (Pub. L. 116-260) (Appropriations Act).¹ The opportunity described in this notice is made available under Assistance Listings Number 20.326, “Federal-State Partnership for State of Good Repair.”

¹ Funds made available under this NOFO are subject to 49 U.S.C. 24911 as it existed on the day of the enactment of the Appropriations Act.

Consistent with Biden-Harris Administration priorities, the Department seeks to fund projects under the Partnership Program that address climate change impacts and environmental justice. Projects should include components that reduce emissions, promote energy efficiency, increase resilience, and recycle or redevelop existing infrastructure. This objective is consistent with Executive Order 14008, Tackling the Climate Crisis at Home and Abroad (86 FR 7619). As part of the Department's implementation of that Executive Order, the Department encourages the submission of applications that would direct resources and benefits towards low-income communities, overburdened communities, or communities underserved by affordable transportation.

The Department also seeks to use the Partnership Program to encourage racial equity by investing in projects that proactively address racial equity and barriers to opportunity. Projects should include components that improve or expand transportation options and mitigate the safety risks and detrimental quality of life effects that rail lines can have on communities, particularly low-income areas, and communities of color. This objective supports the Department's strategic goal related to infrastructure, with the potential for significantly enhancing environmental stewardship and community partnerships, and reflects Executive Order 13985, Advancing Racial Equity and Support for Underserved Communities Through the Federal Government (86 FR 7009). Section E describes the climate change, environmental justice, and racial equity considerations further.

The Partnership Program is intended to benefit both railroad assets in the Northeast Corridor (“NEC”) and public or Amtrak-owned or controlled infrastructure, equipment, and facilities located in other areas of the country. Applicants should note that the Partnership Program has distinct eligibility requirements based on project location. In addition to the generally applicable requirements, applicants proposing NEC Projects should specifically review the NEC-specific requirements provided in Section C(3)(b), and the Qualified Railroad Asset information provided in Section D(2)(a)(vi) while applicants proposing Non-NEC Projects should review the Qualified Railroad Asset information provided in Section D(2)(a)(v).

2. Changes From FY 2020 Partnership Program NOFO

This notice updates the FY 2020 Partnership Program NOFO to reflect the Biden-Harris Administration's priorities for creating good-paying jobs, improving safety, applying transformative technology, and explicitly addressing climate change and racial equity as discussed in Section E(1)(c)(ii).

This notice expands the definition of Capital Project, making expenses incidental to the acquisition or construction (including designing, engineering, location surveying, mapping, environmental studies, and acquiring rights-of-way) of a Capital Project eligible for funding independently or in conjunction with proposed funding for construction or acquisition, as directed by the Appropriations Act.

3. Definitions of Key Terms

Terms defined in this section are capitalized throughout this notice.

a. “Benefit-Cost Analysis” (or “Cost-Benefit Analysis”) is a systematic, data-driven, and transparent analysis comparing monetized project benefits and costs, using a no-build baseline and properly discounted present values, including concise documentation of the assumptions and methodology used to produce the analysis, a description of the baseline, data sources used to project outcomes, values of key input parameters, basis of modeling (including spreadsheets, technical memos, etc.), and presentation of the calculations in sufficient detail and transparency to allow the analysis to be reproduced and sensitivity of results evaluated by FRA. Please refer to the Benefit-Cost Analysis (BCA) Guidance for Discretionary Grant Programs prior to preparing a BCA at https://www.transportation.gov/office-policy/transportation-policy/benefit-cost-analysis-guidance. In addition, please also refer to the BCA FAQs on FRA's website for rail-specific examples of how to apply the BCA Guidance for Discretionary Grant Programs to Partnership Program applications.

b. “Capital Project” means a project primarily intended to replace, rehabilitate, or repair major infrastructure assets utilized for providing Intercity Passenger Rail service, including tunnels, bridges, stations, and other assets, as determined by the Secretary of Transportation; a project primarily intended to improve Intercity Passenger Rail performance, including reduced trip times, increased train frequencies, and higher operating speeds, and other improvements, as determined by the Secretary; and a project for expenses incidental to the acquisition or construction (including designing, engineering, location surveying, mapping, environmental studies, and acquiring rights-of-way) of a project, consistent with 49 U.S.C. 24911(a)(2) and the Appropriations Act.

c. “Construction” means the production of fixed works and structures or substantial alterations to such structures or land and associated costs.

d. “Commuter Rail Passenger Transportation” means short-haul rail passenger transportation in metropolitan and suburban areas usually having reduced fare, multiple ride, and commuter tickets and morning and evening peak period operations, consistent with 49 U.S.C. 24102(3).

e. “Final Design (FD)” means design activities following Preliminary Engineering, and at a minimum, includes the preparation of final Construction plans, detailed specifications, and estimates sufficiently detailed to inform project stakeholders (designers, reviewers, contractors, suppliers, etc.) of the actions required to advance the project from design through completion of Construction.

f. “Intercity Rail Passenger Transportation” means rail passenger transportation, except Commuter Rail Passenger Transportation, consistent with 49 U.S.C. 24911(a)(3). In this notice, “Intercity Passenger Rail” is an equivalent term to “Intercity Rail Passenger Transportation.”

g. “Major Capital Project” means a Capital Project with an estimated total project cost of $300 million or more.

h. “National Environmental Policy Act (NEPA)” is a Federal law that requires Federal agencies to analyze and document the environmental impacts of a proposed action in consultation with appropriate Federal, state, and local authorities, and with the public. NEPA classes of action include an Environmental Impact Statement (EIS), Environmental Analysis (EA) or Categorical Exclusion (CE). The NEPA class of action depends on the nature of the proposed action, its complexity, and the potential impacts. For purposes of this NOFO, NEPA also includes all related Federal laws and regulations including the Clean Air Act, Section 4(f) of the Department of Transportation Act, Section 7 of the Endangered Species Act, and Section 106 of the National Historic Preservation Act. Additional information regarding FRA's environmental processes and requirements are located at https://www.fra.dot.gov/environment.

i. “NEC Project” means a Capital Project where the Qualified Railroad Assets involved in the project are part of, or in primary use for, the Northeast Corridor (“NEC”).

j. “Non-NEC Project” means a Capital Project where the Qualified Railroad Assets involved in the project are not part of, or are not in primary use for, the Northeast Corridor (“NEC”).

k. “Northeast Corridor” (“NEC”) means the main rail line between Boston, Massachusetts, and the District of Columbia; the branch rail lines connecting to Harrisburg, Pennsylvania, Springfield, Massachusetts, and Spuyten Duyvil, New York; and facilities and services used to operate and maintain these lines, consistent with 49 U.S.C. 24911(a)(4).

l. “Preliminary Engineering (PE)” means engineering design to: (1) Define a project, including identification of all environmental impacts, design of all critical project elements at a level sufficient to assure reliable cost estimates and schedules, (2) complete project management and financial plans, and (3) identify procurement requirements and strategies. The PE development process starts with specific project design alternatives that allow for the assessment of a range of rail improvements, specific alignments, and project designs. PE generally occurs concurrently with NEPA and related analyses, and prior to FD and Construction.

m. A “Qualified Railroad Asset,” consistent with 49 U.S.C. 24911(a)(5), means infrastructure, equipment, or a facility that:

i. Is owned or controlled by an eligible applicant;

ii. is contained in the planning document developed under 49 U.S.C. 24904 and for which a cost-allocation policy has been developed under 49 U.S.C. 24905(c), or is contained in an equivalent planning document and for which a similar cost-allocation policy has been developed; and

iii. was not in a State of Good Repair on the date of enactment of the Passenger Rail Reform and Investment Act of 2015 (December 4, 2015).

See Section D(2)(a), Project Narrative, for further details about the Qualified Railroad Asset requirements and application submission instructions related to Qualified Railroad Assets.²

² For any project that includes purchasing intercity passenger rail equipment, applicants are encouraged to use a standardized approach to the procurement, such as the specifications developed by the Next Generation Corridor Equipment Pool Committee or a similarly uniform process.

n. “State of Good Repair” means a condition in which physical assets, both individually and as a system, are (A) performing at a level at least equal to that called for in their as-built or as-modified design specification during any period when the life cycle cost of maintaining the assets is lower than the cost of replacing them; and (B) sustained through regular maintenance and replacement programs, consistent with 49 U.S.C. 24102(12).

B. Federal Award Information

1. Available Award Amount

The total funding available for awards under this NOFO is $198,000,000 made available by the Appropriations Act. Should additional Partnership Program funds become available after the release of this NOFO, FRA may elect to award such additional funds to applications received under this NOFO. Any selection and award under this NOFO is subject to the availability of appropriated funds.

2. Award Size

There are no predetermined minimum or maximum dollar thresholds for awards. FRA anticipates making multiple awards with the available funding. Given the limited amount of funding currently available, FRA may not be able to award grants to all eligible applications even if they meet or exceed the stated evaluation criteria (see Section E, Application Review Information). Projects may require more funding than is available. FRA encourages applicants to propose a project that has operational independence or a component of such project and that can be completed and implemented with funding under this NOFO as a part of the total project cost together with other, non-Federal sources. (See Section C(3)(c) for more information.)

Applicants proposing a Major Capital Project may identify and describe project phases or elements that could be candidates for subsequent Partnership Program funding, if such funding becomes available. Applications for a Major Capital Project that would seek future funds beyond funding made available in this notice should indicate anticipated annual Federal funding requests from this program for the expected duration of the project. FRA may issue Letters of Intent to Partnership Program grant recipients proposing Major Capital Projects under 49 U.S.C. 24911(g); such Letters of Intent would serve to announce FRA's intention to obligate an amount from future available budget authority toward a grant recipient's future project phases or elements. A Letter of Intent is not an obligation of the Federal government and is subject to the availability of appropriations for Partnership Program grants and subject to Federal laws in force or enacted after the date of the Letter of Intent.

4. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement, as well as funding awarded through a cooperative agreement. The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project. See an example of standard terms and conditions for FRA grant awards at: https://www.fra.dot.gov/eLib/Details/L19057. This template is subject to revision.

5. Concurrent Applications

DOT and FRA may be concurrently soliciting applications for transportation infrastructure projects for several financial assistance programs. Applicants may submit applications requesting funding for a particular project to one or more of these programs. In the application for funding under this NOFO, applicants must indicate the other program(s) to which they submitted or plan to submit an application for funding the entire project or certain project components, as well as highlight new or revised information in the application responsive to this NOFO that differs from the previously submitted application(s).

C. Eligibility Information

This section of the notice explains applicant eligibility, cost sharing and matching requirements, project eligibility, and project component operational independence. Applications that do not meet the requirements in this section will be ineligible for funding. Instructions for submitting eligibility information to FRA are detailed in Section D of this NOFO.

1. Eligible Applicants

The following entities are eligible applicants for all projects permitted under this notice:

(1) A State (including the District of Columbia);

(2) a group of States;

(3) an Interstate Compact;

(4) a public agency or publicly chartered authority established by one or more States; ³

³ See Section D(2)(a)(iv) for supporting documentation required to demonstrate eligibility under this eligibility category.

(5) a political subdivision of a State;

(6) Amtrak, acting on its own behalf or under a cooperative agreement with one or more states; or

(7) any combination of the entities described in (1) through (6).

Applications must identify a lead applicant. The lead applicant serves as the primary point of contact for the application, and if selected, as the grantee of the Partnership Program grant award. To submit a joint application, the lead applicant must identify the joint applicant(s) and include a signed statement from an authorized representative of each joint applicant entity that affirms the entity joins the application. See Section D(2) for further instructions about submitting a joint application.

An application submitted by Amtrak and one or more States, whether eligible under (1), (2) or (6) above, must identify the lead applicant and include a signed cooperative agreement between Amtrak and the state(s) consistent with 49 U.S.C. 24911(a)(1)(F). Selection preference will be provided for joint applications, as further discussed in Section E(1)(c). Applications may reference entities that are not eligible applicants (e.g., private sector firms) in an application as a partner in project funding or implementation, but ineligible entities do not qualify as lead or joint applicants. FRA will provide selection preference only to joint applications submitted by multiple eligible applicants.

2. Cost Sharing or Matching

The Federal share of total costs for Partnership Program projects funded under this notice shall not exceed 80 percent. FRA will provide selection preference to applications where the proposed Federal share of total project costs is 50 percent or less. The estimated total cost of a project must be based on the best available information, including engineering studies, studies of economic feasibility, environmental analyses, and information on the expected use of equipment and/or facilities. Additionally, in preparing estimates of total project costs, applicants may use FRA's cost estimate guidance documentation, “Capital Cost Estimating: Guidance for Project Sponsors,” which is available at: https://www.fra.dot.gov/Page/P0926.

The minimum 20 percent non-Federal share may be comprised of public sector (e.g., State or local) or private sector funding. FRA will not consider any Federal financial assistance ⁴ or any non-Federal funds already expended (or otherwise encumbered) toward the matching requirement, unless compliant with 2 CFR part 200. In-kind contributions, including the donation of services, materials, and equipment, may be credited as a project cost, in a uniform manner consistent with 2 CFR 200.306.

⁴ See Section D(2)(a)(iii) for supporting information required to demonstrate eligibility of Federal funds for use as match.

If Amtrak is an applicant, Amtrak may use its ticket and other non-Federal revenues generated from its operations and other sources to satisfy the non-Federal share requirements. Applicants must identify the source(s) of their matching and other funds and must clearly and distinctly reflect these funds as part of the total project cost.

Before applying, applicants should carefully review the principles for cost sharing or matching in 2 CFR 200.306. See Section D(2)(a)(iii) for required application information on non-Federal match and Section E for further discussion of FRA's consideration of matching funds in the review and selection process. FRA will approve pre-award costs consistent with 2 CFR 200.458, as applicable. See Section D(6). Cost sharing or matching may be used only for authorized Federal award purposes.

3. Other

a. Project Eligibility

The following rail projects within the United States to replace or rehabilitate Qualified Railroad Assets and improve Intercity Passenger Rail performance are eligible for funding under 49 U.S.C. 24911, the Appropriations Act, and this NOFO:

(1) Capital Projects to replace existing assets in-kind;

(2) Capital Projects to replace existing assets with assets that increase capacity or provide a higher level of service;

(3) Capital Projects to ensure that service can be maintained while existing assets are brought to a State of Good Repair; and

(4) Capital Projects to bring existing assets into a State of Good Repair.

Qualified Railroad Assets, as further defined in Section A(2), are owned or controlled by an eligible applicant and may include: Infrastructure, including track, ballast, switches and interlockings, bridges, communication and signal systems, power systems, highway-rail grade crossings, and other railroad infrastructure and support systems used in intercity passenger rail service; stations, including station buildings, support systems, signage, and track and platform areas; equipment, including passenger cars, locomotives, and maintenance-of-way equipment; and facilities, including yards and terminal areas and maintenance shops. Capital Projects, as further defined in Section A(2), may include PE, NEPA, Final Design, Construction, or expenses incidental to the acquisition or Construction of a Capital Project. Corridor or project-specific planning studies are not eligible. Pre-Construction activities are eligible for funding independently or in conjunction with proposed funding for construction.

PE/NEPA examples include: Engineering drawings and specifications (scale drawings at the 30% design level, including track geometry as appropriate); design criteria, schematics and/or track charts that support the development of PE; and work that can be funded in conjunction with developing PE, such as operations modeling, surveying, project work/management plans, preliminary cost estimates, and preliminary project schedules. PE/NEPA projects funded under this NOFO must be sufficiently developed to support FD or Construction activities. (See Section D(2)(a)(xii) for additional information.)

b. Additional Eligibility Requirements for NEC Projects

This section provides additional eligibility requirements for NEC Projects. Applicants proposing Non-NEC Projects are not subject to the requirements in this section and do not need to respond to them in their application and may proceed to Section C(3)(c) below.

In the Partnership Program, grant funds may not be provided to an eligible recipient for an eligible NEC Project unless Amtrak and the public authorities providing commuter rail passenger transportation at the eligible project location on the NEC are in compliance with 49 U.S.C. 24905(c)(2). Applicants must demonstrate compliance with 49 U.S.C. 24905(c)(2) by describing the status of compliance with such cost-allocation policy between Amtrak and the public authorities providing commuter rail passenger transportation at the eligible project location, which may include demonstrating that such authorities are excepted from allocating costs for the proposed NEC Project, such as for a project that solely benefits intercity passenger rail, consistent with 49 U.S.C. 24905(c)(1)(A)(ii). Such providers must maintain compliance with 49 U.S.C. 24905(c)(2) for the duration of the project.

c. Project Component

If an applicant requests funding for a project that is a component or set of components of a larger project, the project component(s) must be attainable with the award amount and comply with all eligibility requirements described in Section C.

In addition, the component(s) must enable independent analysis and decision making, as determined by FRA under NEPA (i.e., have independent utility, connect logical termini, and do not restrict the consideration of alternatives for other reasonably foreseeable rail projects).

D. Application and Submission Information

Required documents for the application are outlined in the following paragraphs. Applicants must complete and submit all components of the application. See Section D (2) for the application checklist. FRA welcomes the submission of additional relevant supporting documentation, such as planning, engineering and design documentation, and letters of support from partnering organizations that will not count against the Project Narrative 25-page limit.

1. Address To Request Application Package

Applicants must submit all application materials in their entirety through http://www.Grants.gov no later than 5:00 p.m. ET, on March 7, 2022. Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Lou Lorello, Office of the Chief Financial Officer, Federal Railroad Administration, 1200 New Jersey Avenue SE, Room W36-111, Washington, DC 20590; email: lou.lorello@dot.gov; phone: 202-493-8026.

2. Content and Form of Application Submission

FRA strongly advises applicants to read this section carefully. Applicants must submit all required information and components of the application package to be considered for funding. Additionally, applicants selected to receive funding must satisfy the requirements in 49 U.S.C. 22905 explained in part at https://www.fra.dot.gov/page/P0185 and further in section F.2 of this notice.

Required documents for an application package are outlined in the checklist below.

• Project Narrative (see D.2.a).

• Statement of Work (see D.2.b.i).

• Benefit-Cost Analysis (see D.2.b.ii).

• Environmental Compliance Documentation (see D.2.b.iii).

• SF424—Application for Federal Assistance.

• SF 424C—Budget Information for Construction, or, for an equipment procurement project or non-Construction project, SF 424A—Budget Information for Non-Construction.

• SF 424D—Assurances for Construction, or, for an equipment procurement project or non-Construction project, SF 424B—Assurances for Non-Construction.

• FRA's Additional Assurances and Certifications.

• SF LLL—Disclosure of Lobbying Activities.

• Draft Agreement required under 49 U.S.C. 22905(c)(1), if applicable (see D.2.b.xi).

a. Project Narrative

This section describes the minimum content required in the Project Narrative of grant applications. The Project Narrative must follow the basic outline below to address the program requirements and assist evaluators in locating relevant information.

I. Cover Page | See D.2.a.i
II. Project Summary | See D.2.a.ii
III. Project Funding | See D.2.a.iii
IV. Applicant Eligibility Criteria | See D.2.a.iv
V. Non-NEC Project Eligibility Criteria | See D.2.a.v
VI. NEC Project Eligibility Criteria | See D.2.a.vi
VII. Detailed Project Description | See D.2.a.vii
VIII. Project Location | See D.2.a.viii
IX. Grade Crossing Information, if applicable | See D.2.a.ix
X. Evaluation and Selection Criteria | See D.2.a.x
XI. Project Implementation and Management | See D.2.a.xi
XII. Environmental Readiness | See D.2.a.xii

The above content must be provided in a narrative statement submitted by the applicant. The Project Narrative may not exceed 25 pages in length (excluding cover pages, table of contents, and supporting documentation). FRA will not review or consider Project Narratives beyond the 25-page limitation. If possible, applicants should submit supporting documents via website links rather than hard copies. If supporting documents are submitted, applicants must clearly identify the relevant portion of the supporting document with the page numbers of the cited information in the Project Narrative. The Project Narrative must adhere to the following outline.

i. Cover Page: Include a cover page that lists the following elements in either a table or formatted list:

Project Title |
Lead Applicant Name |
Joint Applicant(s) Name(s), if any |
Amount of Federal Funding Requested Under this NOFO |
Proposed Non-Federal Match |
Total Project Cost |
Was a Federal Grant Application Previously Submitted for this Project? | Yes/No
If Yes, State the Name of the Federal Grant Program and Title of the Project in the Previous Application | Federal Grant Program:
City(-ies), State(s) Where the Project is Located |
Congressional District(s) Where the Project is Located |

ii. Project Summary: Provide a brief 4-6 sentence summary of the proposed project and what the project will entail. Include challenges the proposed project aims to address and summarize the intended outcomes and anticipated benefits that will result from the proposed project.

iii. Project Funding: Indicate in table format the amount of Federal funding requested, the proposed non-Federal match, and total project cost. Identify the source(s) of matching and other funds, and clearly and distinctly reflect these funds as part of the total project cost in the application budget. Include funding commitment letters outlining funding agreements, as attachments or in an appendix. If Federal funding is proposed as match, demonstrate the applicant's determination of eligibility for such use, and the legal basis for that determination. Also, note if the requested Federal funding under this NOFO or other programs must be obligated or spent by a certain date due to dependencies or relationships with other Federal or non-Federal funding sources, related projects, law, or other factors. If applicable, provide the type and estimated value of any proposed in-kind contributions, as well as substantiate how the contributions meet the requirements in 2 CFR 200.306. For a Major Capital Project that would seek future funds beyond funding made available in this notice, provide the anticipated annual Federal funding requests from this grant program, anticipated future non-Federal match, and total project cost for the entire expected duration of the project. Finally, specify whether Federal funding for the project has previously been sought, and identify the Federal program and fiscal year of the funding request(s), as well as highlight new or revised information in the Partnership Program application that differs from the application(s) to other financial assistance programs.

Example Project Funding Table:

Task No. | Task name/project component | Cost | Percentage of total cost
1 |  |  |
2 |  |  |
Total Project Cost |
Federal Funds Received from Previous Grant |  |
Federal Funding Under this NOFO Request |  |
Non-Federal Funding/Match | Cash: In-Kind: |
Portion of Non-Federal Funding from the Private Sector |  |
Portion of Total Project Costs Spent in a Rural Area |  |
Pending Federal Funding Requests |  |

iv. Applicant Eligibility Criteria: Explain how the lead applicant and joint applicant(s) meet the applicant eligibility criteria outlined in Section C of this notice. For public agencies and publicly chartered authorities established by one or more States, the explanation must include citations to the applicable enabling legislation. To submit a joint application, the lead applicant must identify the joint applicant(s) and include a signed statement from an authorized representative of each joint applicant entity that affirms the entity joins the application.

For joint applications involving Amtrak and one or more States, Amtrak and the State(s) must provide a cooperative agreement for the project signed by authorized representatives of Amtrak and each State. Joint applications are expected to include a description of the roles and responsibilities of each applicant, including budget and subrecipient information showing how the applicants will share project costs.

v. Non-NEC Project Eligibility Criteria: This section provides project eligibility requirements for Non-NEC Projects. Applicants proposing NEC Projects may skip this section and proceed to section D(2)(a)(vi). For Non-NEC Projects, demonstrate that the proposed project is a Capital Project that meets the project eligibility criteria in Section C(3) of this notice. Further, demonstrate that the infrastructure, equipment and/or facilities involved in the proposed project are Qualified Railroad Assets under 49 U.S.C. 24911(a)(5), as follows:

(A) To demonstrate ownership or control by an eligible applicant under 49 U.S.C. 24911(a)(5)(A), show either:

(1) The lead or joint applicant owns or will, at project completion, have ownership of the infrastructure, equipment, or facility improved by the project; or

(2) The lead or joint applicant controls or will, at project completion, have control over the infrastructure, equipment, or facility improved by the project including by agreement with the infrastructure, equipment, or facility owner(s). Applicants should describe such agreement(s) in sufficient detail in their application for FRA to understand the extent of the control, including the lead or joint applicant's management and decision-making authority regarding the infrastructure, equipment, or facility improved by the project, and the remaining or anticipated duration of the agreement(s). Agreements involving railroad rights-of-way should also demonstrate the lead or joint applicant has train dispatching and maintenance-of-way responsibilities for the right-of-way.

(B) To demonstrate the requirements under 49 U.S.C. 24911(a)(5)(B), show that the infrastructure, equipment, or facilities involved in the proposed project are contained in a planning document equivalent to the planning document developed under 49 U.S.C. 24904 and for which a similar cost-allocation policy to the cost-allocation policy developed under 49 U.S.C. 24905(c) has been developed.

Non-NEC Projects may satisfy the equivalent planning document requirement described above by demonstrating the project is contained in the planning document(s) prepared under 49 U.S.C. Chapter 227, “State Rail Plans,” for the State(s) where the infrastructure, equipment and facilities are located or in primary use. Applicants with projects contained in a State Rail Plan should indicate the location (e.g., table or page number) where the project is discussed in the document. If a project is not contained in the State Rail Plan, applicants may demonstrate the infrastructure, equipment and facilities involved in the proposed project are contained in an alternate equivalent planning document or amend the relevant State Rail Plan(s) to contain the project. Amending a State Rail Plan requires a letter to FRA from an authorized representative of the relevant State rail transportation authority adding the proposed project to the plan and stating that the letter serves as an addendum to the current plan. Such a letter should include the project name, a brief description of the project, and estimated project cost and Federal and non-Federal share by funding source. FRA encourages State rail transportation authorities to make any such addendum letters publicly available with their State Rail Plans. FRA recommends such letters be submitted as part of an applicant's Partnership Program application via Grants.gov. Whether submitted as part of a Partnership Program application package or separately to FRA, FRA must receive the letter by the application due date of this notice.

Non-NEC Projects must satisfy the similar cost-allocation policy requirement either by demonstrating the infrastructure, equipment or facilities involved in the proposed project are for routes subject to the cost-sharing methodology adopted under Section 209 of the Passenger Rail Investment and Improvement Act of 2008 (PRIIA), Public Law 110-432, Oct. 16, 2008; or by demonstrating the infrastructure, equipment or facilities involved in the proposed project are subject to a similar cost-sharing or cost-allocation policy.

(C) To demonstrate the state of good repair requirement under 49 U.S.C. 24911(a)(5)(B):

(1) Describe the condition and performance of the infrastructure, equipment, or facility as of the time of enactment of the Passenger Rail Reform and Investment Act of 2015 (Dec. 4, 2015);

(2) indicate how the infrastructure, equipment, or facility's condition or performance falls short of the definition of “State of Good Repair” in Section A(2); and

(3) indicate, if known, when the infrastructure, equipment, or facility last received comprehensive repair, replacement, or rehabilitation work similar to the applicant's proposed scope of work.

vi. NEC Project Eligibility Criteria: This section provides project eligibility requirements for NEC Projects. (Applicants proposing Non-NEC Projects may skip this section and proceed to Section D(2)(a)(vii).) For NEC Projects, demonstrate that the proposed project is a Capital Project that meets the project eligibility criteria in Section C(3) of this notice including the requirements in 49 U.S.C. 24911(e). Further, demonstrate that the infrastructure, equipment, and/or facilities involved in the project are Qualified Railroad Assets under 49 U.S.C. 24911(a)(5), as follows:

(A) To demonstrate ownership or control by an eligible applicant under 49 U.S.C. 24911(a)(5)(A), show either:

(1) The lead or joint applicant owns or will, at project completion, have ownership of the infrastructure, equipment, or facility improved by the project; or

(2) The lead or joint applicant controls or will, at project completion, have control over the infrastructure, equipment, or facility improved by the project including by agreement with the infrastructure, equipment, or facility owner(s). Applicants should describe such agreement(s) in sufficient detail in their application for FRA to understand the extent of the control, including the lead or joint applicant's management and decision-making authority regarding the infrastructure, equipment, or facility improved by the project, and the remaining or anticipated duration of the agreement(s). Agreements involving railroad rights-of-way should also demonstrate the lead or joint applicant has train dispatching and maintenance-of-way responsibilities for the right-of-way.

(B) To demonstrate the requirements under 49 U.S.C. 24911(a)(5)(B), show that the infrastructure, equipment, or facilities involved in the proposed project are contained in the planning document developed under 49 U.S.C. 24904 and for which a cost-allocation policy has been developed under 49 U.S.C. 24905(c), or are contained in an equivalent planning document and for which a similar cost-allocation policy has been developed.

NEC Projects must satisfy the planning document requirement by demonstrating the project is contained in the current approved planning document developed under 49 U.S.C. 24904 (i.e., the NEC Commission Five-Year Capital Investment Plan). Applicants with projects contained this plan should indicate the location (e.g., table or page number) where the project in discussed in the document. If an NEC Project is not contained in the 49 U.S.C. 24904 planning document at the time of this notice, applicants may demonstrate that the infrastructure, equipment and facilities involved in the proposed project are contained in an equivalent planning document or update the 49 U.S.C. 24904 planning document to contain the project by the due date for applications under this notice. An equivalent planning document may include a planning document developed under 49 U.S.C. 24320(c).

NEC Projects must satisfy the cost-allocation policy requirement by demonstrating the infrastructure, equipment, or facilities are subject to the cost-allocation policy developed under 49 U.S.C. 24905(c) (i.e., Northeast Corridor Commuter and Intercity Rail Cost Allocation Policy), or a similar cost-allocation policy.

(C) To demonstrate the state of good repair requirement under 49 U.S.C. 24911(a)(5)(C), the NEC applicant must:

(1) Describe the condition and performance of the infrastructure, equipment, or facility as of the time of enactment of the Passenger Rail Reform and Investment Act of 2015 (Dec. 4, 2015);

(2) indicate how the infrastructure, equipment, or facility's condition or performance falls short of the definition of “State of Good Repair” in Section A(2); and

(3) indicate, if known, when the infrastructure, equipment, or facility last received comprehensive repair, replacement, or rehabilitation work similar to the applicant's proposed scope of work.

vii. Detailed Project Description: Include a detailed project description that expands upon the brief project summary. This detailed description should provide, at a minimum: Additional background on the transportation challenges the project aims to address; a summary of current and proposed railroad operations in the project area, to include identification of all railroad owners and operators, typical daily, weekly, or annual train counts by operator, and ridership data for passenger operations ⁵; the primary expected project outcomes such as increased ridership, reduced delays, improved rail network asset condition and performance, or similar outcomes and benefits; the expected users and beneficiaries of the project, including all railroad operators and types of passenger or freight rail service operating or proposed to operate in the project area; the specific components and elements of the project; and any other information the applicant deems necessary to justify the proposed project. Applicants with Major Capital Projects are encouraged to identify and describe project phases or elements that would be candidates for subsequent Partnership Program funding if such funding becomes available. Include information to demonstrate the project is reasonably expected to begin construction in a timely manner. For all projects, applicants must provide information about proposed performance measures, as described in Section F(3)(c) and required in 2 CFR 200.301.

⁵ Given the on-going impact of the COVID-19 pandemic, applicants may provide pre-pandemic ridership data (i.e., fiscal or calendar year 2019 data), as well as more recent ridership data.

viii. Project Location: Include geospatial data for the project, as well as a map of the project's location. On the map, include the Congressional districts in which the project will take place.

ix. Grade Crossing Information, if applicable: For any project that includes grade crossing components, cite specific DOT National Grade Crossing Inventory information, including the railroad that owns the infrastructure (or the crossing owner, if different from the railroad), the primary railroad operator, the DOT crossing inventory number, and the roadway at the crossing. Applicants can search for data to meet this requirement at the following link: http://safetydata.fra.dot.gov/OfficeofSafety/default.aspx.

x. Evaluation and Selection Criteria: Include a thorough discussion of how the proposed project meets all of the evaluation and selection criteria, as outlined in Section E of this notice. If an application does not sufficiently address the evaluation criteria and the selection criteria, it is unlikely to be a competitive application. To support a finding of eligibility, for projects that are on a shared corridor with Commuter Railroad Passenger Transportation, clearly demonstrate how the proposed project directly benefits Intercity Passenger Rail Transportation and that funding the proposed project would be a reasonable investment in Intercity Passenger Rail Transportation, independent and separate from consideration of the proposed project's benefits to Commuter Railroad Passenger Transportation.

xi. Project Implementation and Management: Describe proposed project implementation and project management arrangements, including between the lead and joint applicants, if any. Include descriptions of the expected arrangements for project contracting, contract oversight and control, change-order management, risk management, and conformance to Federal requirements for project progress reporting (see https://www.fra.dot.gov/Page/P0274). Describe past experience in managing and overseeing similar projects. For Major Capital Projects, explain plans for a rigorous project management and oversight approach.

xii. Environmental Readiness: If the NEPA process is complete, an applicant should indicate the date of completion, and provide a website link or other reference to the documents demonstrating compliance with NEPA, which might include a final Categorical Exclusion, Finding of No Significant Impact, or Record of Decision. If the NEPA process is not yet underway, the application should state this. If the NEPA process is underway, but not complete, the application should detail the type of NEPA review underway, where the project is in the process, and indicate the anticipated date of completion of all NEPA-related milestones. If the last agency action with respect to NEPA documents occurred more than three years before the application date, the applicant should describe why the project has been delayed and why NEPA documents have not been updated and include a proposed approach for verifying and, if necessary, updating this material in accordance with applicable NEPA requirements. Additional information regarding FRA's environmental processes and requirements are located at https://www.fra.dot.gov/environment.

b. Additional Application Elements

Applicants must submit:

i. A Statement of Work (SOW) addressing the scope, schedule, and budget for the proposed project if it were selected for award. The SOW must contain sufficient detail so FRA, and the applicant, can understand the expected outcomes of the proposed work to be performed and can monitor progress toward completing project tasks and deliverables during a prospective grant's period of performance. Applicants must use FRA's standard SOW, schedule, and budget templates to be considered for award. The templates are located at https://www.fra.dot.gov/Page/P0325.

When preparing the budget, the total cost of a project must be based on the best available information as indicated in cited references that include engineering studies, economic feasibility studies, environmental analyses, and information on the expected use of equipment or facilities. For Major Capital Projects, the SOW must include annual budget estimates and anticipated Federal funding for the expected duration of the project.

ii. A Benefit-Cost Analysis consistent with 49 U.S.C. 24911(d)(2)(A), as an appendix to the Project Narrative for each project submitted by an applicant. The BCA should demonstrate in economic terms the merit of investing in the proposed project. The BCA should include anticipated private and public benefits relative to the costs of the proposed project, including the project's anticipated:

i. Effects on system and service performance;

ii. effects on safety, competitiveness, reliability, trip or transit time, and resilience;

iii. efficiencies from improved integration with other modes; and

iv. ability to meet existing or anticipated demand.

The BCA should be systematic, data driven, and examine the trade-offs between reasonably expected project costs and benefits. Applicants are encouraged to include quantifiable railroad data related to the Qualified Railroad Assets involved in the project, such as information on delay, failure or safety incidents, passengers carried (e.g., ridership), daily train movements, or similar metrics. To the extent feasible, such railroad metrics should be provided discretely for Intercity Passenger Rail and, if applicable, Commuter Rail Passenger Transportation and freight rail transportation services involved in the proposed project. Benefits may be quantified for savings in safety costs, reduced costs from disruption of service, maintenance costs, reduced travel time, emissions reductions, and increases in capacity or ability to offer new types of freight or passenger services. Applicants may also describe other categories of benefits that are difficult to quantify such as noise reduction, environmental impact mitigation, improved quality of life, or reliability of travel times. All benefits claimed for the project must be clearly tied to the expected outcomes of the project. BCAs for proposed projects that include benefits to another transportation mode or service in addition to Intercity Passenger Rail Transportation (e.g., Commuter Rail Passenger Transportation, freight rail, or local public transportation), should provide discrete data and analysis identifying the Intercity Passenger Rail Transportation portion of project benefits. The complexity and level of detail in the Benefit-Cost Analysis prepared for the Partnership Program should reflect the scope and scale of the proposed project. Please refer to the Benefit-Cost Analysis Guidance for Discretionary Grant Programs prior to preparing a BCA at https://www.transportation.gov/office-policy/transportation-policy/benefit-cost-analysis-guidance. In addition, please also refer to the BCA FAQs on FRA's website (https://railroads.dot.gov/elibrary/consolidated-rail-infrastructure-and-safety-improvements-crisi-and-federal-state) for some rail-specific examples of how to apply the Benefit-Cost Analysis Guidance for Discretionary Grant Programs to Partnership applications.

iii. Environmental compliance documentation, as applicable, if a website link is not cited in the Project Narrative.

iv. SF 424—Application for Federal Assistance.

v. SF 424A—Budget Information for Non-Construction or SF 424C—Budget Information for Construction.

vi. SF 424B—Assurances for Non-Construction or SF 424D—Assurances for Construction.

vii. FRA's Additional Assurances and Certifications.

viii. SF LLL—Disclosure of Lobbying Activities.

ix. A statement that the lead applicant has a system for procuring property and services under a Federal award under this NOFO that supports the provisions in 2 CFR 200 Subpart D—Procurement Standards at 2 CFR 200.317-326 and 2 CFR 1201.317.

x. A statement indicating whether the applicant or any of its principals:

a. Is presently suspended, debarred, voluntarily excluded, or disqualified;

b. has been convicted within the preceding 3 years of any of the offenses listed in 2 CFR 180.800(a); or had a civil judgment rendered against the organization or the individual for one of those offenses within that time period;

c. is presently indicted for, or otherwise criminally or civilly charged by a governmental entity (Federal, State or local) with, commission of any of the offenses listed in 2 CFR 180.800(a); or

d. has had one or more public transactions (Federal, State, or local) terminated within the preceding 3 years for cause or default (including material failure to comply).

xi. Draft Agreement required under 49 U.S.C. 22905(c)(1), if applicable. As a condition of receiving a grant under this program for a project that uses rights-of-way owned by a railroad, the grant recipient shall have in place a written agreement between the grant recipient and the railroad regarding such use and ownership, including any compensation for such use; assurances regarding the adequacy of infrastructure capacity to accommodate both existing and future freight and passenger operations; an assurance by the railroad that collective bargaining agreements with the railroad's employees including terms regulating the contracting of work) will remain in full force and effect according to their terms for work performed by the railroad on the railroad transportation corridor; and an assurance that the grant recipient complies with liability requirements consistent with 49 U.S.C. 28103.

xii. FRA F 251, Applicant Financial Capability Questionnaire.

Forms needed for the electronic application process are at www.Grants.gov.

c. Post-Selection Requirements

See Section F(2) of this notice for post-selection requirements.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for a late application.

FRA may not make a grant award to an applicant until the applicant has complied with all applicable Data Universal Numbering System (DUNS) and SAM requirements and if an applicant has not fully complied with the requirements by the time the Federal awarding agency is ready to make a Federal award, the Federal awarding agency may determine that the applicant is not qualified to receive a Federal award and use that determination as a basis for making a Federal award to another applicant. (Please note that if a Dun & Bradstreet DUNS number must be obtained or renewed, this may take a significant amount of time to complete). Late applications, including those that are the result of a failure to register or comply with Grants.gov applicant requirements in a timely manner, will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, grantees, and subrecipients. The DUNS number will be used throughout the grant life cycle. Obtaining a DUNS number is a free, one-time activity. Applicants may obtain a DUNS number by calling 1-866-705-5711 or by applying online at http://www.dnb.com/us.

b. Register With the SAM at www.SAM.gov

All applicants for Federal financial assistance must maintain current registrations in the SAM database. An applicant must be registered in SAM to successfully register in Grants.gov. The SAM database is the repository for standard information about Federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest level owner and subsidiaries, as well as on all predecessors that have been awarded a Federal contract or grant within the last three years, if applicable. Information about SAM registration procedures is available at www.sam.gov.

c. Create a Grants.gov Username And Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulty at any point during this process, please call the Grants.gov Customer Center Hotline at 1-800-518-4726, 24 hours a day, 7 days a week (closed on Federal holidays). For information and instructions on each of these processes, please see instructions at: http://www.grants.gov/web/grants/applicants/apply-for-grants.html.

4. Submission Dates and Times

Applicants must submit complete applications to www.Grants.gov no later than 5:00 p.m. ET, March 7, 2022. Applicants will receive a system-generated acknowledgement of receipt. FRA reviews www.Grants.gov information on dates/times of applications submitted to determine timeliness of submissions. Late applications will be neither reviewed nor considered. Delayed registration is not an acceptable reason for late submission. To apply for funding under this announcement, all applicants are expected to be registered as an organization with Grants.gov. Applicants are strongly encouraged to apply early to ensure all materials are received before this deadline.

To ensure a fair competition of limited discretionary funds, no late submissions will be reviewed for any reason, including: (1) Failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their state's process under Executive Order 12372.

6. Funding Restrictions

Consistent with 2 CFR 200.458, as applicable, FRA will only approve pre-award costs if such costs are incurred pursuant to the negotiation and in anticipation of the grant agreement and if such costs are necessary for efficient and timely performance of the scope of work. Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

FRA is prohibited under 49 U.S.C. 22905(f) ⁶ from providing Partnership Program grants for Commuter Rail Passenger Transportation. FRA's interpretation of this provision is informed by the language in 49 U.S.C. 24911, and specifically the definitions of capital project in 49 U.S.C. 24911(a)(2)(A) and (B). FRA's primary intent in funding Partnership Program projects is to make reasonable investments in Capital Projects for Intercity Rail Passenger Transportation. Such projects may be located on shared corridors where Commuter Rail Passenger Transportation and/or freight rail also benefit from the project.

⁶ Under 49 U.S.C. 24911(i), Partnership grants are subject to the conditions in 49 U.S.C. 22905.

7. Other Submission Requirements

For any supporting application materials that an applicant cannot submit via Grants.gov, such as oversized engineering drawings, an applicant may submit an original and two (2) copies to Mr. Bryan Rodda, Office of Policy and Planning, Federal Railroad Administration, 1200 New Jersey Avenue SE, Room W38-203, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

a. Eligibility, Completeness, and Applicant Risk Review

FRA will first screen each application for applicant and project eligibility (eligibility requirements are outlined in Section C of this notice), completeness (application documentation and submission requirements are outlined in Section D of this notice), applicant risk and the 20 percent minimum non-Federal match in determining whether the application is eligible.

FRA will then consider applicant risk, including the applicant's past performance in developing and delivering similar projects and previous financial contributions, and if applicable, previous competitive grant technical evaluation ratings that the proposed project received under previous competitive grant programs administered by DOT.

b. Evaluation Criteria

FRA will evaluate all eligible and complete applications using the evaluation criteria outlined in this section to determine technical merit and project benefits.

i. Technical Merit: FRA will take into account—

(A) The degree to which the tasks and subtasks outlined in the SOW are appropriate to achieve the expected outcomes of the proposed project;

(B) The technical qualifications and demonstrated experience of key personnel proposed to lead and perform the technical efforts, and the qualifications of the primary and supporting organizations to fully and successfully execute the proposed project within the proposed timeframe and budget;

(C) The degree to which the proposed project's business plan considers potential private sector participation in the financing, construction, or operation of the proposed project;

(D) Whether the applicant has, or will have, the legal, financial, and technical capacity to carry out the project; satisfactory continuing control over the use of the equipment or facilities; and the capability and willingness to maintain the equipment or facilities;

(E) The applicant's past performance in developing and delivering similar projects, and previous financial contributions;

(F) Whether the project has completed necessary prerequisites and demonstrates strong project readiness; and

(G) Whether the project is consistent with planning guidance and documents set forth by the Secretary of Transportation or required by law.

ii. Project Benefits: FRA will take into account the benefit-cost analysis of the proposed project, including anticipated private and public benefits relative to the costs of the proposed project including—

(A) Effects on system and service performance;

(B) Effects on safety, competitiveness, reliability, trip or transit time, and resilience;

(C) Efficiencies from improved integration with other modes; and

(D) Ability to meet existing or anticipated demand.

c. Selection Criteria

In addition to the eligibility and completeness review and the evaluation criteria outlined in this section, FRA will apply the following selection criteria:

i. FRA will give preference to applications where:

(A) Amtrak is not the sole applicant;

(B) Applications were submitted jointly by multiple eligible applicants; and

(C) The proposed Federal share of total project costs is 50 percent or less.

ii. After applying the above preferences, FRA will take in account the following key DOT objectives:

(A) Safety. DOT will assess the project's ability to foster a safe transportation system for the movement of goods and people, consistent with the Department's strategic goal to reduce transportation-related fatalities and serious injuries across the transportation system. Such considerations will include, but are not limited to, the extent to which the project improves safety at highway-rail grade crossings, reduces incidences of rail-related trespassing, and upgrades infrastructure to achieve a higher level of safety.

(B) Equitable economic strength and improving core assets. DOT will assess the project's ability to contribute to economic progress stemming from infrastructure investment and associated creation of good jobs with fair wages, labor protections, and the opportunity to join a union. Such considerations will include, but are not limited to, the extent to which the project invests in vital infrastructure assets and provides opportunities for families to achieve economic security through rail industry employment.

(C) Ensuring investments meet racial equity and economic inclusion goals. DOT will assess the project's ability to encourage racial equity by investing in projects that proactively address racial equity and barriers to opportunities. Such considerations will include, but are not limited to, the extent to which the project improves or expands transportation options, mitigates the safety risks and detrimental quality of life effects that rail lines can have on communities, and expands workforce development and training opportunities to foster a more diverse rail industry.

(D) Resilience and addressing climate change. DOT will assess the project's ability to reduce the harmful effects of climate change and anticipate necessary improvements for preparedness. Such considerations will include, but are not limited to, the extent to which the project reduces emissions, promotes energy efficiency, increases resilience, and recycles or redevelops existing infrastructure.

(E) Transformation of our nation's transportation infrastructure. DOT will assess the project's ability to expand and improve the nation's rail network, which needs to balance new infrastructure for increased capacity with proper maintenance of aging assets. Such considerations will include, but are not limited to, the extent to which the project adds capacity to congested corridors, builds new connections or attracts new users to passenger rail, and ensures assets will be improved to a state of good repair.

iii. For NEC Projects, FRA will consider the appropriate sequence and phasing of projects as contained in the Northeast Corridor capital investment plan developed pursuant to 49 U.S.C. 24904(a).

iv. In determining the allocation of program funds, FRA may also consider geographic diversity, diversity in the size of the systems receiving funding, and the applicant's receipt of other competitive awards.

2. Review and Selection Process

FRA will conduct a four-part application review process, as follows:

a. Screen applications for completeness, eligibility, and applicant risk and consider applicable past performance and previous financial contributions and technical evaluation ratings;

b. Evaluate eligible applications (completed by technical panels applying the evaluation criteria);

c. Review, apply selection criteria and recommend initial selection of projects for the FRA Administrator's review (completed by a non-career Senior Review Team, which includes senior leadership from the Office of the Secretary and FRA); and

d. Select recommended awards for the Secretary's review and approval (completed by the FRA Administrator.)

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information

1. Federal Award Notice

FRA will announce applications selected for funding in a press release and on FRA's website after the application review period. This announcement is FRA's notification to successful and unsuccessful applicants alike. FRA will contact applicants with successful applications after announcement with information and instructions about the award process. This notification is not an authorization to begin proposed project activities. FRA requires satisfaction of applicable requirements by the applicant and a formal agreement signed by both the grantee and the FRA, including an approved scope, schedule, and budget, before obligating the grant. See an example of standard terms and conditions for FRA grant awards at https://railroads.fra.dot.gov/elibrary/award-administration-and-grant-conditions. This template is subject to revision.

2. Administrative and National Policy Requirements

In connection with any program or activity conducted with or benefiting from funds awarded under this notice, grantees of funds must comply with all applicable requirements of Federal law, including, without limitation, the Constitution of the United States; the conditions of performance, nondiscrimination requirements, and other assurances made applicable to the award of funds in accordance with regulations of DOT; and applicable Federal financial assistance and contracting principles promulgated by the Office of Management and Budget. In complying with these requirements, grantees, in particular, must ensure that no concession agreements are denied or other contracting decisions made on the basis of speech or other activities protected by the First Amendment. If DOT determines that a grantee has failed to comply with applicable Federal requirements, DOT may terminate the award of funds and disallow previously incurred costs, requiring the grantee to reimburse any expended award funds.

Examples of administrative and national policy requirements include: 2 CFR part 200; procurement standards at 2 CFR part 200 Subpart D—Procurement Standards; 2 CFR 1207.317 and 2 CFR 200.401; compliance with Federal civil rights laws and regulations; disadvantaged business enterprises requirements; debarment and suspension requirements; drug-free workplace requirements; FRA's and OMB's Assurances and Certifications; Americans with Disabilities Act; safety requirements; NEPA; environmental justice requirements; and compliance with 49 U.S.C. 24905(c)(2) for the duration of NEC Projects. Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905 including the Buy America requirements, protective arrangements that are equivalent to the protective arrangements established under section 504 of the Railroad Revitalization and Regulatory Reform Act of 1976 (45 U.S.C. 836) with respect to employees affected by actions taken in connection with the project to be financed in whole or in part by grants under this chapter, the provision deeming operators rail carriers and employers for certain purposes, and grantee agreements with railroad right-of-way owners for projects using railroad rights-of-way (see D.2.b.xi). More information about FRA's Buy America requirements is available at: https://railroads.dot.gov/legislation-regulations/buy-america/buy-america.

Grantees must comply with applicable appropriations act requirements and all relevant requirements of 2 CFR part 200. Rights to intangible property under grants awarded under this NOFO are governed in accordance with 2 CFR 200.315. See an example of standard terms and conditions for FRA grant awards at https://railroads.fra.dot.gov/elibrary/award-administration-and-grant-conditions. This template is subject to revision.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350.

If the Federal share of any Federal award under this NOFO may include more than $500,000 over the period of performance, applicants are informed of the post award reporting requirements reflected in 2 CFR part 200, Appendix XII—Award Term and Condition for Recipient Integrity and Performance Matters.

c. Performance Reporting

Each applicant selected for funding must collect information and report on the project's performance using measures mutually agreed upon by FRA and the grantee to assess progress in achieving strategic goals and objectives. Examples of some rail performance measures are listed in the table below. The applicable measure(s) will depend upon the type of project. Applicants requesting funding for rolling stock must integrate at least one equipment/rolling stock performance measure, consistent with the grantee's application materials and program goals.

Performance Measure
Rail measures | Unit measured | Temporal | Primary strategic goal | Secondary strategic goal | Description
Slow Order Miles | Miles | Annual | State of Good Repair | Safety | The number of miles per year within the project area that have temporary speed restrictions (“slow orders”) imposed due to track condition. This is an indicator of the overall condition of track. This measure can be used for projects to rehabilitate sections of a rail line since the rehabilitation should eliminate, or at least reduce the slow orders upon project completion.
Rail Track Grade Separation | Count | Annual | Economic Competitiveness | Safety | The number of annual automobile crossings that are eliminated at an at-grade crossing as a result of a new grade separation.
Passenger Counts | Count | Annual | Economic Competitiveness | State of Good Repair | Count of the annual passenger boardings and alightings at stations within the project area.
Travel Time | Time/Trip | Annual | Economic Competitiveness | Quality of Life | Point-to-point travel times between pre-determined station stops within the project area. This measure demonstrates how track improvements and other upgrades improve operations on a rail line. It also helps make sure the railroad is maintaining the line after project completion.
Track Miles | Miles | One Time | State of Good Repair | Economic Competitiveness | The number of track miles that exist within the project area. This measure can be beneficial for projects building sidings or sections of additional main line track on a railroad.

d. Federal Awarding Agency Contacts

For further information related to this notice, please contact Mr. Bryan Rodda, Office of Policy and Planning, Federal Railroad Administration, 1200 New Jersey Avenue SE, Room W38-203, Washington, DC 20590; email: Bryan.Rodda@dot.gov; phone: 202-493-0443.

e. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 Subpart C—Availability of Reasonably Described Records under the Freedom of Information Act which sets forth rules for FRA to make requested materials, information, and records publicly available under FOIA. Unless prohibited by law and to the extent permitted under the FOIA, contents of application and proposals submitted by successful applicants may be released in response to FOIA requests. In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Allison Ishihara Fultz,
Chief Counsel.

[FR Doc. 2021-26835 Filed 12-9-21; 8:45 am]

BILLING CODE 4910-06-P